DEPARTMENT OF COMMERCE

National Oceanic and Atmospheric Administration

Docket No. [000411103-0103-01; I.D. No. 021400B]

RIN: [0648-ZA86]

Announcement of Funding Opportunity for the Southeast Bering Sea Carrying Capacity Research Project.

AGENCY: Center for Sponsored Coastal Ocean Research (CSCOR)/Coastal Ocean Program (COP), National Ocean Service (NOS), National Oceanic and Atmospheric Administration (NOAA), Commerce.

ACTION: Solicitation of research proposals for the Southeast Bering Sea Carrying Capacity Research Project.

SUMMARY: The NOAA Coastal Ocean Program announces an opportunity for ecosystem dynamics studies on the southeastern Bering Sea shelf as part of the Southeast Bering Sea Carrying Capacity (SEBSCC) project. This announcement solicits 1-year and 2-year proposals for synthesis and limited monitoring to begin at the start of fiscal year (FY) 2001 (October 1, 2000), contingent upon the availability of funds and facilities. This Phase III announcement addresses years five and six of SEBSCC. Funding for SEBSCC will terminate at the end of Phase III (September 30, 2002).

This notice solicits applications for research projects from eligible non-Federal and Federal applicants. In an effort to maximize the use of limited resources, applications from non-Federal, non-NOAA Federal and NOAA applicants will be competed against each other. Research proposals selected for funding from non-Federal researchers will be funded through a project grant. Research proposals selected for funding from non-NOAA Federal applicants will be funded through an interagency transfer provided legal authority exists for the federal applicant to receive funds from another agency. Research proposals selected for funding from NOAA will be funded through NOAA.

DATES: The deadline for receipt of proposals at the COP office is 3 p.m. local time on July 11, 2000.

ADDRESSES: Submit the original and 13 copies of your proposal to the COP Office (SEBSCC 2001), SSMC#3, 9th Floor, Station 9700, 1315 East-West Highway, Silver Spring, MD 20910. In addition, submit an electronic copy of the proposal in either WordPerfect or MSWord format at time of initial application. NOAA Standard Form Applications with instructions are accessible on the following COP Internet Site: http://www.cop.noaa.gov under the COP Grants Support Section, Part D, Application Forms for Initial Proposal Submission.

Further information on this program and summaries and results of all projects funded under Phases I and II of SEBSCC are available from SEBSCC's web site at http://www.pmel.noaa.gov/sebscc and COP's web site at http://www.cop.noaa.gov

FOR FURTHER INFORMATION CONTACT: Technical Information: Allen Macklin at Pacific Marine Environmental Laboratory, 7600 Sand Point Way, Seattle, WA, 98115-0070, 206-526-6798, Internet: Allen.Macklin@noaa.gov, or Elizabeth Turner, SEBSCC 2001 Program Manager, Coastal Ocean Program Office, 301-713-3338/ext 135, Internet: Elizabeth.Turner@noaa.gov.

Business Management Information: Leslie McDonald, COP Grants Office, 301-713-3338/ext 137; Internet: Leslie.McDonald@noaa.gov.

SUPPLEMENTARY INFORMATION:

Background

Program Description

For complete program description and other requirements criteria for the Coastal Ocean Program, see COP's General Grant Administration Terms and Conditions annual notification in the Federal Register (64 FR 49162, September 10, 1999) and at the COP home page. It is anticipated that final selections for funding will be made in late fiscal year 2000.

The Bering Sea ecosystem experiences interannual and climate variability. Oceanographic conditions observed during Phases I and II of SEBSCC differed in several key respects. For example, summer of 1997 brought warm (+3 degree C) sea temperature anomalies, unusually strong stratification, a coccolithophorid bloom, and reduced numbers of foraging sea birds and returning salmon. The year 1999 brought cold sea temperatures that have not been seen since the mid-1970s.

Strong contrasts in ocean conditions provide a basis for synthesis and comparison of the role of oceanic conditions on the carrying capacity of the Bering Sea. Specifically, proposals are sought that examine existing data to understand how oceanographic changes affect the food web and food supply to higher trophic level animals. Also, proposals are sought that seek to test whether selected biophysical indices can be used to identify the state of the ecosystem and the juvenile walleye pollock (Theragra chalcogramma) resource and to measure the predictive capability of those indices.

The Bering Sea ecosystem is among the most productive of high-latitude seas and supports large populations of marine fish, birds and mammals. This productivity is important to the U.S. economy in that fish and shellfish from the region constitute almost 5 percent of the world and 40 percent of the U.S. fisheries harvest. Pollock, salmon, halibut, and crab generate over 2 billion dollars per year in fisheries revenue and provide a major source of protein. The overwhelming dominance of pollock in the Bering Sea means that this species currently plays a singularly important role in this ecosystem. SEBSCC Phase I and II research sought to understand the processes controlling the Bering Sea ecosystem. During those studies, several indications of ecosystem change were detected. The synthesis phase of SEBSCC is designed to assimilate research findings on biophysical processes underlying the ecosystem change in the Bering Sea.

Quantifying the relative importance of natural variations and human-induced variations in explaining upper trophic level ecosystem changes is a key management issue for the Bering Sea. Differentiating trends in fish stock abundance attributable to human exploitation from trends due to natural variations is difficult because the fisheries and environmental time series are often short or incomplete. Trends are seldom stable and can be subject to regional variation. Important lower trophic level changes include those natural and anthropogenic variations that cause shifts in the production of new organic matter and its vertical distribution.

SEBSCC postulates that a large fraction of the Bering Sea ecosystem energy passes through the pollock population. Juvenile pollock respond to and potentially impact primary and secondary production through grazing, and influence the availability of food for upper trophic level species, including adult pollock, seabirds, and marine mammals. Pollock provide an important measure of the condition of the present ecosystem, and may be an indicator of changes in the Bering Sea over the last three decades and in the future.

The SEBSCC program is designed to improve our understanding of the Bering Sea ecosystem; the results of this endeavor will directly assist fishery and resource managers.

SEBSCC Goal and Phase III Objectives

The goal of SEBSCC is to increase understanding of the southeastern Bering Sea pelagic ecosystem. New information will be used to develop and test annual indices of pre-recruit (age-0 and age-1) pollock abundance that will support management of pollock stocks and help determine food availability to other species.

The specific objectives for Phase III are to:

(1) Develop indices for pre-recruit pollock in the Bering Sea by using several complimentary approaches;

(2) Provide limited monitoring to test proposed indices;

(3) Provide a synthesis of current Bering Sea ecosystem research, as documented in a special journal issue to be published in 2001 and other sources, for publication in the Coastal Ocean Program Decision Analysis Series.

Structure of the Research Program

SEBSCC is a NOAA COP regional ecosystem project begun in 1996. This continuing effort is managed by the University of Alaska Fairbanks, NOAA's Alaska Fisheries Science Center, and NOAA's Pacific Marine Environmental Laboratory. SEBSCC synthesis research comprises three components: modeling and index development, monitoring, and synthesis/assessment of results of process-oriented field studies.

(1) Modeling and index development: This effort is designed to synthesize results generated by SEBSCC or by other programs and historical data, using conceptual, theoretical, statistical, and numerical models to investigate the ecosystem, especially the role of pollock. Proposals are encouraged that will provide spatially explicit biophysical models that quantify the influence of ocean forcing on the bioenergetics, life history, and age structure of pollock populations in the Bering Sea.

The time period should emphasize information gained through process studies and system observations during the SEBSCC years 1995-1999 or a broader retrospective period from the 1970s to the 1999s. SEBSCC anticipates funding three or four parallel but complementary approaches to synthesis of information on the Bering Sea and development of pollock recruitment indices. These include, but are not limited to:

(a) Fisheries modeling that emphasizes a top-down approach, but includes the impact of juvenile pollock and some spatial and ecosystem dependence;

(b) Coupled biophysical models that contrast transport and food variability in the different SEBSCC years 1995-1999, and treat pollock to age 6 months;

(c) Conceptual/observationally based studies to develop and test indices, including, but not limited to, retrospective analysis of the performance of selected ecosystem parameters that are leading indicators of pollock production and/or ecosystem change.

Investigators should demonstrate how their research would improve our understanding of the impacts of ocean forcing on marine production and how these findings can be used to improve resource management of the eastern Bering Sea. Efforts to quantify uncertainty in model predictions are highly encouraged.

(2) Monitoring: The aim of the monitoring component is to provide the basis for interannual comparison of the population processes and their coupling to the physical structure and variability of the environment. Shipboard studies help to determine the distribution and abundance of target organisms in relation to their physical environment. SEBSCC suggests the continuation of the biophysical mooring at Site 2 and a spring biological cruise that measures water properties, nutrients, zooplankton and larval pollock at previous SEBSCC sites. Funding is available for making observations and data processing.

(3) Written synthesis/assessment of results of process studies: Research results from SEBSCC Phases I and II and other programs are to be submitted to a special journal issue by September 2000. Under this AO, there is an opportunity for researchers to use the content of the special issue, additional SEBSCC material and other information to produce a manuscript for inclusion in a Coastal Ocean Program Decision Analysis Series report. The manuscript will review SEBSCC and other research results, evaluate their importance in meeting the goals of SEBSCC and management needs, discuss progress in understanding the ecosystem of the southeastern Bering Sea, and make recommendations for future research.

About Phases I and II

Proposals for Phase I studies were requested in 1996 and funded in fiscal years 1997 and 1998. Summaries and results of all projects funded under Phase I of SEBSCC are available from the SEBSCC web site, see ADDRESSES.

Central Scientific issues for Phase I included the following:

(1) Influence of climate variability on the Bering Sea ecosystem: Was there historical evidence for a biophysical regime shift on the Bering Sea shelf? How was this reflected in ecological relationships and species mix? Are there “top-down” ecosystem effects associated with climate variations as well as with “bottom-up” effects?

(2) Limited population growth on the Bering Sea shelf: Was there evidence of a single species carrying capacity, e.g. for pollock, or a more complex structure? What is the ecological role of pollock on the Bering Sea shelf, i.e. how are pollock, forage fish, and apex species linked through energetics and life history? How important is cannibalism?

(3) Influence of oceanographic conditions of biological distribution on the shelf: How do the separate mixing domains, sea ice, and cold pool influence the overlap or separation between predators and prey?

(4) Possible influences on primary and secondary production regimes: What were the sources of nutrients to the southeastern Bering Sea shelf, and what processes affected their availability? Has the variability in sea ice extent and timing been the primary factor influencing productivity? What has determined the relative allocation of organic carbon going to benthos versus that remaining in the pelagic system? What are the lower trophic level structure and energetics on the shelf in summer and winter, especially regarding euphausiids? What is the role of gelatinous organisms?

Proposals for Phase II studies were requested in 1998 and funded in FYs 1999 and 2000. Summaries and results of all projects funded under Phase II of SEBSCC are available from the SEBSCC web site, see ADDRESSES.

The specific objectives for Phase II were to:

(1) Determine how changes in on-shelf transport of nutrients impact pelagic food webs. This includes determination of how timing, duration, magnitude, and species composition of primary, secondary, and forage fish production affect food availability for higher trophic levels.

(2) Determine how climate variability influences the spatial overlap of pollock of different life stages, and how the availability of juvenile pollock to predators affects pollock survival rate.

Part I: Schedule and Proposal Submission

The provisions for proposal preparation provided here are mandatory. Proposals received after the published deadline or proposals that deviate from the prescribed format will be returned to the sender without further consideration. This announcement and additional background information will be made available on the COP home page.

Full proposals addressing Phase III, objective (1), should cover a 2-year project period, i.e., from date of award through twenty-four (24) consecutive months. Proposals addressing Phase III, objective (2), should cover a 1-year period, FY 2001. Proposals addressing objective (3) should cover a 1-year period commencing with acceptance of manuscripts for the special journal issue (approximately spring 2001). Prospective investigators should provide a full scientific justification for their research and not simply reiterate justifications laid out in this AO or in previous documents.

Proposals should be written to allow adequate review of the details of such things as goals and objectives, conceptual framework, methodological approaches, integration with other likely projects and syntheses. Variables to be used as candidate indices are to be directly mentioned and justified.

Successful proposers are strongly encouraged to present preliminary results at the Tenth Annual PICES meeting planned for Victoria, B.C., Canada, in October 2001. Travel costs for the meeting may be included in prospective budgets. In addition, it would be helpful if a statement is included as to how proposed efforts are related to efforts of other potential investigators; interdisciplinary and multi-trophic level coordination are particularly encouraged. Because of an 8-page limitation for the project description, individual proposals with overly complex structure and large numbers of investigators are discouraged.

Full Proposals

Applications submitted to this announcement require an original proposal and 13 proposal copies at time of submission. This requirement includes color or high-resolution graphics, unusually sized materials (not 8.5” x 11”, or 21.6 cm x 28 cm), or otherwise unusual materials submitted as part of the proposal. For color graphics, submit either color originals or color copies. In addition, an electronic copy of the proposal in either WordPerfect or MSWord format is requested at time of initial application. The stated requirements for the number of original proposal copies provide for a timely review process because of the large number of technical reviewers. Facsimile transmissions and electronic mail submission of full proposals will not be accepted.

Required Elements

All recipients are to follow closely the instructions and requirements in the preparation of the standard NOAA Application Forms and Kit requirements listed in Part II: Further Supplementary Information, paragraph (10) of this document. Each proposal must also include the following eight elements:

(1) Signed summary title page: The title page should be signed by the PI and the institutional representative. The summary title page identifies the project's title starting with the acronym SEBSCC 2000, a short title (<50 characters), and the lead principal investigator's name and affiliation, complete address, phone, FAX, and E-mail information. The requested budget for each fiscal year should be included on the summary title page. Multi-institution proposals must include signed summary title pages from each institution.

(2) One-page abstract/project summary: The Project Summary (Abstract) Form, which is to be submitted at time of application, shall include an introduction of the problem, rationale, scientific objectives and/or hypotheses to be tested, and a brief summary of work to be completed. State whether you are proposing modeling and index development, monitoring, or synthesis/assessment of process studies.

For modeling and index development, describe the method(s) to be used, the relation to potential pollock indices, and the hypothesis to be tested. For monitoring, state the relationship to existing observations and to development of a pre-recruit index. The prescribed COP format for the Project Summary Form can be found on the COP Internet site under the COP Grants Support Section.

The summary should appear on a separate page, headed with the proposal title, institution(s), investigator(s), total proposed cost, and budget period and should be written in the third person. The summary is used to help compare proposals quickly and allows the respondents to summarize these key points in their own words.

(3) Statement of work/project description: The project description section should not exceed eight pages of text and five figures. It is important to provide a full scientific justification for the research; and not to simply reiterate justifications presented in this document. Page and figure limits are inclusive of figures and other visual materials, but exclusive of references and milestone chart. This section should include:

(a) The objective for the period of proposed work and its expected result and significance;

(b) The relation to the present state of knowledge in the field and relation to previous work and work in progress by the proposing principal investigator(s);

(c) A discussion of how the proposed project lends value to the program goals and provides synthesis and support for selection of indices, if applicable;

(d) A project management statement that clearly identifies the functions of each PI within a team;

(e) A potential coordination with other investigators;

(f) An intent to adhere to NOAA's specific requirements that environmental data be submitted to the National Oceanographic Data Center; adherence to the data policy that is posted on SEBSCC's home page; and

(g) References cited: Reference information is required. Each reference must include the names of all authors in the same sequence in which they appear in the publications, the article title, volume number, page numbers, and year of publications. While there is no established page limitation, this section should include bibliographical information only and should not be used to provide parenthetical information outside of 8-page project description.

(4) Milestone chart: Time lines of major tasks covering the 12- to 24-month duration of the proposed project.

(5) Budget: At time of proposal submission, all applicants shall submit the Standard Form, SF-424 (Rev 7-97), Application for Federal Assistance, to indicate the total amount of funding proposed for the whole project period. In lieu of the Standard Form 424A, Budget Information (Non-Construction), at time of original application, all proposers are required to submit a COP Summary Proposal Budget Form for each fiscal year increment (i.e., 2001, 2002). Multi-institution proposals must include budget forms from each institution.

This budget form, compatible with forms in use by other agencies that participate in joint projects with COP, will provide a detailed annual budget and the level of detail required by the COP program staff to evaluate the effort to be invested by investigators and staff on a specific project. The COP budget form can be found on the COP home page under COP Grants Support, Part D, or may be requested from the COP Grants Administrator listed under FURTHER INFORMATION.

All applicants shall include a budget narrative/justification that supports all proposed budget object class categories. The program office will review the proposed budgets to determine the necessity and adequacy of proposed costs for accomplishing the objectives of the proposed grant. The SF-424A, Budget Information (Non-Construction) Form, shall be requested from only those recipients subsequently recommended for award to the NOAA Grants Management Division after the competitive review process has been completed.

(6) Biographical sketch: An abbreviated curriculum vitae, two pages per investigator, is sought with each proposal. Include a list of up to five publications most closely related to the proposed project and up to five other significant publications, not related to the project. Include a list of all persons (including their organizational affiliation), in alphabetical order, who have collaborated on a project, book, article, or paper within the last 48 months. If no collaborators exist, indicate their absence. Disclose students, post-doctoral associates, and graduate and postgraduate advisors of the PI because this information is used to help identify potential conflicts of interest or bias in the selection of reviewers.

(7) Current and pending support: Describe all current and pending support for all PIs, including subsequent funding in the case of continuing grants. List all current support from whatever source (e.g., Federal, state or local government agencies, private foundations, industrial or other commercial organizations). Include the proposed project and all other projects or activities requiring a portion of time of the PI and other senior personnel even if they receive no salary support from the project(s). Show the total award amount for the entire award period covered (including indirect costs) should be shown as well as the number of persons or months per year to be devoted to the project, regardless of source of support.

(8) Proposal format and assembly: Clamp the proposal in the upper left-hand corner, but leave it unbound. Use one inch (2.5 cm) margins at the top, bottom, left and right of each page. Use a clear and easily legible type face in standard 12 point size.

Part II: Further Supplementary Information

(1) Program authorities: For a list of all program authorities for the Coastal Ocean Program, see COP's General Grant Administration Terms and Conditions annual document in the Federal Register (64 FR 49162, September 10, 1999) and at the COP home page. Specific authority cited for this Announcement is 33 U.S.C. 883(d) for Coastal Ocean Program.

(2) Catalog of Federal Domestic Assistance Numbers: 11.478 for the Coastal Ocean Program.

(3) Program description: For complete COP program descriptions, see the annual COP General Document (64 FR 49162, September 10, 1999).

(4) Funding availability: Funding is contingent upon receipt of fiscal years 2001-2002 Federal appropriations. The anticipated maximum annual funding for SEBSCC is $700,000 in FYs 2001 and $300,000 in FY 2002. It is anticipated that $450,000 in FYs 2001 and $200,000 in FY 2002 will be available to fund three or four modeling and index development projects addressing Phase III objective (1). Further, it is projected that approximately $150,000 will be available for monitoring in FY 2001 to address Phase III objective (2). In 2001, one month of ship time is expected during spring for monitoring work. Joint work with other research institutions on their vessels is a possibility. Approximately $40,000 will be available for synthesis/assessment of results of process studies. This component will begin when all submissions to the special journal issue are accepted, probably spring 2001.

It is recognized that resources are limited; therefore, potential investigators are encouraged to consider leveraging their proposals with support from other sources, although this is not a requirement. Investigators interested in the Bering Sea may also consider becoming no-cost collaborators; ship time and modest travel support would be available.

If an application is selected for funding, NOAA has no obligation to provide any additional prospective funding in connection with that award in subsequent years. Renewal of an award to increase funding or extend the period of performance is based on satisfactory performance and is at the total discretion of the funding agencies.

Publication of this document does not obligate any agency to any specific award or to any part of the entire amount of funds available. Recipients and subrecipients are subject to all Federal laws and agency policies, regulations, and procedures applicable to Federal financial assistance awards.

(5) Matching Requirements: None.

(6) Type of funding instrument: Project Grants for non-Federal applicants; interagency transfer agreements or other appropriate mechanisms other than project grants or cooperative agreements for Federal applicants.

(7) Eligibility criteria: For complete eligibility criteria for the Coastal Ocean Program, see COP's General Grant Administration Terms and Conditions annual notification in the Federal Register (64 FR 49162, September 10, 1999) and at the COP home page. Federal researchers in successful multi-investigator proposals will be funded through NOAA. Proposals deemed acceptable from Federal researchers will be funded through a mechanism other than a grant or cooperative agreement, where legal authority allows for such funding. Non-NOAA Federal applicants are required to submit certification or documentation which clearly shows that they can receive funds from the Department of Commerce (DoC) for research (i.e., legal authority exists allowing the transfer of funds from DoC to the non-NOAA Federal applicant's agency).

(8) Award period: Full Proposals should cover a project period of 1 or 2 years, FYs 2001-2002. Multi-year funding will be funded incrementally on an annual basis. Therefore, each annual award shall require a Statement of Work that is clearly severable and can be easily separated into annual increments of meaningful work which represent solid accomplishments if prospective funding is not made available.

(9) Indirect costs: If indirect costs are proposed, the following statement applies: The total dollar amount of the indirect costs proposed in an application must not exceed the indirect cost rate negotiated and approved by a cognizant Federal agency prior to the proposed effective date of the award.

(10) Application forms: For complete information on application forms for the Coastal Ocean Program, see COP's General Grant Administration Terms and Conditions annual document in the Federal Register (64 FR 49162, September 10, 1999), Part (9) Application Forms and Kit; and at the COP home page, under Grants Support, Part D, Application Forms for Initial Proposal Submission; and the information given earlier in this document under Required Elements, paragraph (5) Budget.

With the exception of the Standard Form 424 (Rev July 1997) Application for Federal Assistance, the other standard NOAA forms required as part of a complete application package may be submitted at time of application, or at a later date if the applicant is subsequently notified of selection for funding.

(11) Project funding priorities: For description of project funding priorities, see COP's General Grant Administration Terms and Conditions annual document in the Federal Register (64 FR 49162, September 10, 1999) and at the COP home page. Those priorities are in addition to the priorities listed in this document.

(12) Evaluation criteria: For complete information on evaluation criteria, see COP's General Grant Administration Terms and Conditions annual document in the Federal Register (64 FR 49162, September 10, 1999) and at the COP home page.

(13) Selection procedures: For complete information on selection procedures, see COP's General Grant Administration Terms and Conditions annual document in the Federal Register (64 FR 49162, September 10, 1999) and at the COP home page.

(14) Other requirements: Intergovernmental Review: Applications under this program are not subject to Executive Order 12372, “Intergovernmental Review of Federal Programs”. For a complete description of all other requirements, see COP's General Grant Administration Terms and Conditions annual document in the Federal Register (64 FR 49162, September 10, 1999) and at the COP home page.

(15) Pursuant to Executive Orders 12876, 12900 and 13021, the Department of Commerce, National Oceanic and Atmospheric Administration (DOC/NOAA) is strongly committed to broadening the participation of Historically Black Colleges and Universities, Hispanic Serving Institutions and Tribal Colleges and Universities in its educational and research programs. The DOC/NOAA vision, mission and goals are to achieve full participation by Minority Serving Institutions (MSIs)in order to advance the development of human potential, to strengthen the nation's capacity to provide high-quality education, and to increase opportunities for MSIs to participate in, and benefit from, Federal Financial Assistance programs. DOC/NOAA encourages all applicants to include meaningful participation of MSIs.

(16) Applicants are hereby notified that they are encouraged, to the greatest practicable extent, to purchase American-made equipment and products with funding provided under this program.

(17) This notification involves collection-of-information requirements subject to the Paperwork Reduction Act. The use of Standard Forms 424, 424A, 424B, and SF-LLL has been approved by the Office of Management and Budget (OMB) under control numbers 0348-0043, 0348-0044, 0348-0040 and 0348-0046.

The COP Grants Application Package has been approved by OMB under control number 0648-0384 and includes the following information collections: a Summary Proposal Budget Form, a Project Summary Form, standardized formats for the Annual Performance Report and the Final Report, and the submission of up to 20 copies of proposals. Copies of these forms and formats can be found on the COP Home Page under Grants Support section, Part F.

Notwithstanding any other provision of law, no person is required to respond to, nor shall any person be subject to a penalty for failure to comply with a collection of information subject to the requirements of the Paperwork Reduction Act, unless that collection displays a currently valid OMB control number.

Dated: May 8, 2000.
Ted I. Lillestolen,
Deputy Assistant Administrator, National Ocean Service, National Oceanic and Atmospheric Administration.

[FR Doc. 00-12033 Filed 5-11-00; 8:45 am]

BILLING CODE 3510-JS-F